DEPARTMENT OF AGRICULTURE

Animal and Plant Health Inspection Service

[Docket No. APHIS-2006-0066]

Notice of Request for Extension of Approval of an Information Collection; National Animal Identification System; Information Requirements for Private and State Animal Tracking Database Owners

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the integration of private and State animal tracking databases with the National Animal Identification System.

DATES: We will consider all comments that we receive on or before July 11, 2006.

ADDRESSES: You may submit comments by either of the following methods:

Federal eRulemaking Portal: Go to http://www.regulations.gov and, in the lower “Search Regulations and Federal Actions” box, select “Animal and Plant Health Inspection Service” from the agency drop-down menu, then click on “Submit.” In the Docket ID column, select APHIS-2006-0066 to submit or view public comments and to view supporting and related materials available electronically. Information on using Regulations.gov, including instructions for accessing documents, submitting comments, and viewing the docket after the close of the comment period, is available through the site's “User Tips” link.

Postal Mail/Commercial Delivery: Please send four copies of your comment (an original and three copies) to Docket No. APHIS-2006-0066, Regulatory Analysis and Development, PPD, APHIS, Station 3A-03.8, 4700 River Road Unit 118, Riverdale, MD 20737-1238. Please state that your comment refers to Docket No. APHIS-2006-0066.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information regarding the integration of private and State animal tracking databases with the National Animal Identification System, contact Mr. Vincent Chapman, Program Analyst, Surveillance and Identification Programs, National Center for Animal Health Programs, VS, APHIS, 4700 River Road Unit 200, Riverdale, MD 20737; (301) 734-0739. For copies of more detailed information on the information collection, contact Mrs. Celeste Sickles, APHIS' Information Collection Coordinator, at (301) 734-7477.

SUPPLEMENTARY INFORMATION: Title: National Animal Identification System; Information Requirements for Private and State Animal Tracking Database Owners.

OMB Number: 0579-0288.

Type of Request: Extension of approval of an information collection.

Abstract: As part of its ongoing efforts to safeguard U.S. animal health, the U.S. Department of Agriculture (USDA) initiated the implementation of the National Animal Identification System (NAIS) in 2004. NAIS is a cooperative State-Federal-industry partnership to standardize and expand animal identification programs and practices to all livestock species and poultry. NAIS is being developed through the integration of three components-premises identification, animal identification, and animal tracking. The long-term goal of the NAIS is to provide animal health officials with the capability to identify all livestock and premises that have had direct contact with a disease of concern within 48 hours after discovery.

NAIS is currently a voluntary program. To ensure the NAIS not only provides the results necessary to maintain the health of the national herd but also is a program that is practical for producers and all others involved in production, USDA has adopted a phased-in approach to implementing three key components: Premises registration, animal identification, and animal tracking. The USDA has already developed information systems to support the first two components. The third component will be developed through a government/industry partnership, in which animal movement information will be maintained in private and/or State databases and made available to the Animal and Plant Health Inspection Service (APHIS) as needed in specific situations to trace animal movements.

A document entitled “Integration of Private and State Animal Tracking Databases with the NAIS; Interim Development Phase,” presents our initial plans for moving forward with the implementation of this system. The document describes the Animal Trace Processing System (ATPS), a system for processing animal movement data. A two-phase plan for implementing the ATPS is also described. The plan consists of an interim/development phase, which is set to begin in 2006, and an implementation phase, which is targeted for early 2007. Finally, the document provides data standards and technical requirements and specifications that databases must meet to be eligible for participation in the interim phase.

Organizations that wish to participate in this phase of the NAIS must complete the “Request for Evaluation of Interim Private/State Animal Tracking Database” to initiate an APHIS review of its animal tracking database (ATD). If an organization's ATD meets the interim requirements, an organization may elect to enter into a cooperative agreement with APHIS. The cooperative agreement will outline data elements and access and operating procedures, as well as stipulate how movement data will be archived and transferred in the event the organization and/or technology company ceases business or elects to discontinue the operation of the ATD. The cooperative agreement will ensure that animal health officials have access to the information contained in the ATD when necessary to perform their duties.

We are asking the Office of Management and Budget to extend approval of the information collection activities associated with the ATPS for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 8 hours per response.

Respondents: Private and State animal tracking database owners.

Estimated annual number of respondents: 30.

Estimated annual number of responses per respondent: 1.

Estimated annual number of responses: 30.

Estimated total annual burden on respondents: 210 hours. (Due to averaging, the total annual burden hours may not equal the product of the annual number of responses multiplied by the reporting burden per response.)

All responses to this notice will be summarized and included in the request for OMB approval. All comments will also become a matter of public record.

Done in Washington, DC, this 8th day of May 2006.
Kevin Shea,
Acting Administrator, Animal and Plant Health Inspection Service.

[FR Doc. E6-7255 Filed 5-11-06; 8:45 am]

BILLING CODE 3410-34-P